DEPARTMENT OF TRANSPORTATION

Federal Railroad Administration

Notice of Application for Approval of Discontinuance or Modification of a Railroad Signal System or Relief from the Requirements of Title 49 Code of Federal Regulations Part 236

Pursuant to Title 49 Code of Federal Regulations (CFR) Part 235 and 49 U.S.C. 20502(a), the following railroads have petitioned the Federal Railroad Administration (FRA) seeking approval for the discontinuance or modification of the signal system or relief from the requirements of 49 CFR Part 236 as detailed below.

Docket Number FRA-2006-25847

Applicants: CSX Transportation, Incorporated, Mr. C. M. King,Chief Engineer, Communications and Signals,500 Water Street, SC J-350,Jacksonville, Florida 32202. Norfolk Southern Corporation, R.J. Rumsey, Assistant Vice President, C&S,99 Spring Street, SW.Atlanta, Georgia 30303.

CSX Transportation, Incorporated (CSXT) and Norfolk Southern Corporation (NS), jointly seek approval of the proposed modification of the signal system, at Stanley Tower Interlocking, milepost CTT-19.50, near Toledo, Ohio, on CSXT's Chicago Division, Toledo Terminal Subdivision. The proposed changes consist of the conversion of power-operated switches, numbers 7 and 8 to hand operation, and the discontinuance and removal of controlled signals, numbers 3, 5, 6, and 11. The proposed changes are associated with a major track and signal rationalization plan at Stanley Tower, and the moving of future control of the facility to the CSXT Operations Center, located in Jacksonville, Florida.

The reason given for the proposed changes is that under the proposed rationalization plan, the power-operated switches will not be required. Trains approaching from the north will operate at a slow speed through Stanley Interlocking.

Any interested party desiring to protest the granting of an application shall set forth specifically the grounds upon which the protest is made, and include a concise statement of the interest of the party in the proceeding. Additionally, one copy of the protest shall be furnished to the applicant at the addresses listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on October 11, 2006.
Grady C. Cothen, Jr.,
Deputy Associate Administrator for Safety,Standards and Program Development.

[FR Doc. E6-17166 Filed 10-16-06; 8:45 am]

BILLING CODE 4910-06-P